DEPARTMENT OF DEFENSE

Department of the Army

Surplus Property Notice at a Military Installation Designated for Disposal: Pueblo Chemical Depot, Colorado

AGENCY: Department of the Army, DoD.

ACTION: Notice.

SUMMARY: This notice provides information regarding the property that have been determined surplus to the United States needs in accordance with the Defense Authorization Amendments and Base Closure and Realignment Act, Public Law 100-526, as amended, and the 1988 Base Closure and Realignment Commission Report, as approved, and following screening with Federal agencies and Department of Defense components.

DATES: Effective December 16, 2013.

FOR FURTHER INFORMATION CONTACT: Headquarters, Department of the Army, Assistant Chief of Staff for Installation Management, Base Realignment and Closure (BRAC) Division, Attn: DAIM-BD, 600 Army Pentagon, Washington DC 20310-0600, (703) 545-1318. For information regarding the specific property listed below, contact the Army BRAC Division at the mailing address above or at usarmy.pentagon.hqda-acsim.mbx.braco-webmaster@mail.mil.

SUPPLEMENTARY INFORMATION: Under the provisions of the Federal Property and Administrative Services Act of 1949, as amended, the Defense Authorization Amendments and Base Closure and Realignment Act, as amended, and other public benefit conveyance authorities, this surplus property may be available for conveyance to State and local governments and other eligible entities for public benefit purposes. Notices of interest from representatives of the homeless, and other interested parties located in the vicinity of any listed surplus property should be submitted to both the recognized Local Redevelopment Authority and Army point of contact as listed above. Notices of interest from representatives of the homeless shall include the information required by 32 CFR 176.20(c)(2)(ii). The Recognized Local Redevelopment Authority shall assist interested parties in evaluating the surplus properties for the intended use. Deadlines for notices of interest shall be 90 days from the date a corresponding notice is published in a newspaper of general circulation in the vicinity of the installation. Additional information for listed property may be found at http://www.hqda.army.mil/acsim/brac/sites.html?state=CO.

Surplus Property List

1. Addition

Colorado

Pueblo Chemical Depot: 45825 Hwy 96E, Building 1, Pueblo, CO 81006-9330. The Army's POC is Ms. Kathryn Cain. POC information: email address kathryn.cain@us.army.mil; telephone number 719-549-4060; and mailing address 45825 Hwy 96E, Building 1, Pueblo, CO 81006-9330. The Pueblo Depot Activity Development Authority has been recognized as the Local Redevelopment Authority (LRA). Mr. Russell A. DeSalvo III, LRA President and CEO, can be reached for information at telephone number 719-947-3770; email address rdesalvo@PuebloPlex.com; and mailing address 11467 PO Box, Pueblo, CO 81001-0467.

Authority: This action is authorized by the Defense Authorization Amendments and Base Closure and Realignment Act, Pub. L. 100-526.

Dated: November 25, 2013.
Paul D. Cramer,
Deputy Assistant Secretary of the Army (Installations, Housing and Partnerships).

[FR Doc. 2013-30351 Filed 12-19-13; 8:45 am]

BILLING CODE 3710-08-P